DEPARTMENT OF COMMERCE

National Oceanic and Atmospheric Administration

RIN 0648-XA727

Fisheries of the Caribbean, Gulf of Mexico, and South Atlantic; Gulf of Mexico Reef Fish Fishery; South Atlantic Snapper-Grouper Fishery

AGENCY: National Marine Fisheries Service (NMFS), National Oceanic and Atmospheric Administration (NOAA), Commerce.

ACTION: Notice of agency action.

SUMMARY: NMFS, under the authority granted to the Secretary of Commerce (Secretary) under section 304(f) of the Magnuson-Stevens Fishery Conservation and Management Act (Magnuson-Stevens Act), has designated the South Atlantic Fishery Management Council (South Atlantic Council) as the responsible council to manage Nassau grouper in the Gulf of Mexico (Gulf) under the Fishery Management Plan (FMP) for the Snapper-Grouper Fishery of the South Atlantic Region (Snapper-Grouper FMP). Prior to this designation, the Gulf of Mexico Fishery Management Council (Gulf Council) was the responsible council to manage Nassau grouper from the fishery management unit in the FMP for Reef Fish Resources of the Gulf of Mexico (Reef Fish FMP).

DATES: This action is effective on December 16, 2011.

FOR FURTHER INFORMATION CONTACT: Steve Branstetter, (727) 824-5305; email: Steve.Branstetter@noaa.gov.

SUPPLEMENTARY INFORMATION: The Gulf Council has submitted a Generic Annual Catch Limits/Accountability Measures Amendment for the Gulf Council's Red Drum, Reef Fish, Shrimp, and Coral and Coral Reefs FMPs (Generic ACL Amendment) for purposes of review by the Secretary under the Magnuson-Stevens Act. A Notice of Availability for the Generic ACL Amendment was published in the Federal Register on September 26, 2011 (76 FR 59373). A proposed Rule to implement the actions in the Generic ACL Amendment was published in the Federal Register on October 25, 2011 (76 FR 66021). As part of this amendment, the Gulf Council has selected to remove Nassau grouper from the Reef Fish FMP. This proposed action is based on an October 20, 2010, letter from the South Atlantic Council informing the Gulf Council of its willingness to accept responsibility for managing Nassau grouper throughout South Atlantic and Gulf Federal waters. Prior to this designation, the South Atlantic Council solely managed Nassau grouper in its area of jurisdiction, in the South Atlantic, through the Snapper-Grouper FMP.

In accordance with section 304(f) of the Magnuson-Stevens Act, on September 16, 2011, the Gulf Council formally requested, through a letter, that the Secretary designate the South Atlantic Council as the responsible Council for the continued management of Nassau grouper in the Federal waters of the South Atlantic region and to manage the species in the Federal waters of the Gulf. NMFS agrees with designating management of Nassau grouper in the South Atlantic and Gulf Federal waters to the South Atlantic Council. Therefore, on October 18, 2011, NMFS published a notice in the Federal Register (76 FR 64327) requesting public comment on the proposed action through November 17, 2011, on the Gulf Council's proposal.

Prior to this designation, the harvest of Nassau grouper was prohibited in Federal waters by regulations implemented through the Reef Fish FMP in the Gulf and the Snapper-Grouper FMP in the South Atlantic. The harvest of Nassau grouper in Florida state waters is prohibited by the applicable Florida regulations. With the approval and implementation of the Gulf Council's Generic ACL Amendment, which proposes to remove Nassau grouper from the Reef Fish FMP, all harvesting restrictions for Nassau grouper in Federal waters of the Gulf would be removed. With this notice, the South Atlantic Council is designated as the responsible council for the management of Nassau grouper in the Gulf. The South Atlantic Council is expected to extend the prohibition on harvest of Nassau grouper in the Gulf. Any action to remove the current prohibitions in the Gulf will have a delayed effective date, so that it will be implemented simultaneously with a subsequent South Atlantic Council action to extend the harvest prohibition.

No comments were received regarding the proposed action and therefore NMFS is proceeding with the change in designation of the responsible council for Nassau grouper in the Gulf.

Authority: 16 U.S.C. 1801 et seq.

Dated: December 13, 2011.
Samuel D. Rauch III,
Deputy Assistant Administrator for Regulatory Programs, National Marine Fisheries Service.

[FR Doc. 2011-32273 Filed 12-13-11; 4:15 pm]

BILLING CODE 3510-22-P